DEPARTMENT OF AGRICULTURE

Rural Utilities Service

Georgia Transmission Corporation; Notice of Finding of No Significant Impact

AGENCY: Rural Utilities Service, USDA.

ACTION: Notice of finding of no significant impact.

SUMMARY: Notice is hereby given that the Rural Utilities Service (RUS) has made a finding of no significant impact with respect to a request from Georgia Transmission Corporation for financing assistance from RUS to finance the construction of a 230/115 kV switching station and a 230 kV transmission line in Heard and Coweta Counties, Georgia.

FOR FURTHER INFORMATION CONTACT: Bob Quigel, Environmental Protection Specialist, Engineering and Environmental Staff, RUS, Stop 1571, 1400 Independence Avenue, SW., Washington, DC 20250-1571, telephone (202) 720-0468, e-mail at bquigel@rus.usda.gov.

SUPPLEMENTARY INFORMATION: Georgia Transmission Corporation proposes to construct a 230 kV transmission line between its existing Yellowdirt Substation located within the boundary of Plant Wansley in Heard County, Georgia, to a proposed 230 kV switching station to be located in Coweta County, Georgia. The proposed switching station is to be identified as the Dresden Switching Station. The Dresden Switching Station will be located approximately 0.4 miles south of the intersection of Highway 34 and Quimby Jackson Road at the intersection of the Municipal Electric Authority of Georgia's existing Yates-LaGrange 230 kV and Georgia Power Company's 500 kV O'Hara-Wansley Transmission Lines. The proposed transmission line will parallel Georgia Power Company's 500 kV O'Hara-Wansley Transmission line for 7 miles, then turn west and be routed for 1.12 miles, cross the Chattahoochee River, and traverse another mile to connect to the Yellowdirt Substation.

The transmission line conductors and static wire would be supported by concrete, single-pole, self-supporting and guyed structures. Georgia Transmission Corporation will need to purchase and clear an additional 75-feet of easement for 7 miles where the proposed transmission line will parallel Georgia Power Company's existing 500 kV transmission line and 100-feet of easement for 2.12 miles where the transmission line is cross country.

Copies of the Finding of No Significant Impact are available from RUS at the address provided herein or from Ms. Gayle Houston of Georgia Transmission Corporation, 2100 East Exchange Place, Tucker, Georgia 30085-2088 telephone (770) 270-7748. Ms. Houston's e-mail address is gayle.houston@gatrans.com

Dated: December 12, 2002.
Alfred Rodgers,
Acting Assistant Administrator, Electric Program, Rural Utilities Service.

[FR Doc. 03-712 Filed 1-13-03; 8:45 am]

BILLING CODE 3410-15-P